DEPARTMENT OF COMMERCE

Foreign-Trade Zones Board

[B-54-2022]

Foreign-Trade Zone (FTZ) 15; Authorization of Production Activity; Moly-Cop USA, LLC; (Forged Steel Grinding Balls); Kansas City, Missouri

On November 17, 2022, Moly-Cop USA, LLC submitted a notification of proposed production activity to the FTZ Board for its facility within FTZ 15 in Kansas City, Missouri.

The notification was processed in accordance with the regulations of the FTZ Board (15 CFR part 400), including notice in the Federal Register inviting public comment (87 FR 71577, November 23, 2022). On March 17, 2023, the applicant was notified of the FTZ Board's decision that no further review of the activity is warranted at this time. The production activity described in the notification was authorized, subject to the FTZ Act and the FTZ Board's regulations, including Section 400.14.

Dated: March 17, 2023.
Elizabeth Whiteman,
Acting Executive Secretary.

[FR Doc. 2023-05867 Filed 3-21-23; 8:45 am]

BILLING CODE 3510-DS-P